DEPARTMENT OF HOMELAND SECURITY

U.S. Customs and Border Protection

DEPARTMENT OF THE TREASURY

19 CFR Part 102

[CBP Dec. 22-25]

RIN 1515-AE77

Rules of Origin for Goods Imported Into the United States

AGENCY: U.S. Customs and Border Protection, Department of Homeland Security.

ACTION: Final rule; technical corrections.

SUMMARY: This document sets forth technical corrections to U.S. Customs and Border Protection (CBP) regulations to reflect recent changes in the Harmonized Tariff Schedule of the United States. The affected provisions, which are based in part on specified changes in tariff classification, comprise a codified system used for determining: the country of origin for marking purposes for goods imported under the Agreement Between the United States of America, the United Mexican States, and Canada (USMCA); determining the country of origin of imported goods for the purposes specified in paragraph 1 of Annex 311 of the North American Free Trade Agreement (NAFTA) for outstanding pending NAFTA claims; determining whether an imported good is a new or different article of commerce under the United States-Morocco Free Trade Agreement and the United States-Bahrain Free Trade Agreement; and for determining the country of origin of textile and apparel products (other than those of Israel).

DATES: The final rule is effective on November 15, 2022.

FOR FURTHER INFORMATION CONTACT: Yuliya A. Gulis, Director, Commercial and Trade Facilitation Division, Regulations and Rulings, Office of Trade, (202) 744-3442, yuliya.a.gulis@cbp.dhs.gov.

SUPPLEMENTARY INFORMATION:

Background

Section 102.20 of title 19 of the U.S. Customs and Border Protection (CBP) regulations (19 CFR 102.20) prescribes the tariff shift rules that are used to determine country of origin for certain purposes. CBP first promulgated these codified rules (referred to as “the part 102 rules”) to fulfill the United States' commitment under Annex 311 of the North American Free Trade Agreement (NAFTA), which required the parties to establish rules for determining whether a good is a good of a NAFTA country. The NAFTA Implementation Act, Public Law 103-182, 107 Stat. 2057 (19 U.S.C. 3301 et seq.), was repealed by the United States-Mexico-Canada Agreement Implementation Act (USMCA), Public Law 116-113, 134 Stat. 11 (19 U.S.C. Chapter 29), as of July 1, 2020. On July 6, 2021, CBP published an interim final rule in the Federal Register (86 FR 35566) implementing certain portions of the USMCA, where CBP stated its decision to continue application of the current part 102 rules to determine the country of origin for marking purposes of imported goods under the USMCA. Thus, the part 102 rules remain in effect. Additionally, the part 102 rules are still applied for outstanding pending claims under NAFTA.

The part 102 rules are also used for several other trade agreements. For instance, as indicated in the scope provision for part 102 (§ 102.0), the rules set forth in §§ 102.1 through 102.21 also apply for purposes of determining whether an imported good is a new or different article of commerce under § 10.769 of the United States-Morocco Free Trade Agreement regulations and § 10.809 of the United States-Bahrain Free Trade Agreement regulations. Section 102.21 also provides the rules of origin for determination of country of origin of imported textile and apparel products for certain purposes, other than those that are products of Israel.

Need for Correction

Pursuant to section 1205 of the Omnibus Trade and Competitiveness Act of 1988 (codified at 19 U.S.C. 3005), the United States International Trade Commission (ITC) is required to keep the Harmonized Tariff Schedule of the United States (HTSUS) under continuous review and prepare investigations proposing modifications to the HTSUS to the President. In July 2015, the ITC issued “Recommended Modifications in the Harmonized Tariff Schedule to Conform with Amendments to the Harmonized System Recommended by the World Customs Organization, and to Address Other Matters: Proposed Commission Recommendations,” Inv. No. 1205-11, USITC Publication No. 4556. The modifications proposed in the report were effective on January 1, 2017, pursuant to Presidential Proclamation 9549. 81 FR 87401, 87406 (Dec. 2, 2016). In July 2016, the ITC issued “Commission Recommendations to the President to Modify the Tariff Nomenclature in Chapters 3, 44, and 63 of the Harmonized Tariff Schedule,” Inv. No. 1205-12, USITC Publication No. 4621. The modifications proposed in the report were effective on January 1, 2018, pursuant to Presidential Proclamation 9687. 82 FR 61413, 61417 (Dec. 27, 2017). In April 2021, the ITC issued, “Recommended Modifications to the Harmonized Tariff Schedule, 2021,” Inv. No. 1205-13, USITC Publication No. 5171. The modifications proposed in the report were effective on January 1, 2022, pursuant to Presidential Proclamation 10326. 86 FR 73593, 73597 (Dec. 28, 2021).

As a result of these modifications to the HTSUS, certain tariff provisions were added or removed, and certain goods were transferred, for tariff classification purposes, to different or newly-created tariff provisions. The changes to the HTSUS involved product coverage and/or numbering of certain headings and subheadings and were not intended to have any other substantive effect. Accordingly, this document makes technical corrections to §§ 102.20 and 102.21 in order for the regulations to conform the numbering in the tariff shift rules to the numbering in the current version of the HTSUS. This document also makes minor conforming changes to chapter notes 42, 64, 70, and 96, and adds a new chapter note 65. In addition, this document also corrects typographical errors that occurred in previous updates.

The following examples are offered to illustrate the need for technical corrections to §§ 102.20 and 102.21.

Example 1: Under current § 102.20(o), there is a tariff shift rule for subheading 8469.00, HTSUS. Under the 2017 amendments to the HTSUS, heading 8469, HTSUS, which covered “Typewriters other than printers of heading 8443; word processing machines,” was deleted. The goods previously classified under this provision are now classified under subheading 8472.90. As a result, the terms of the tariff shift rule for subheading 8469.00 are being revised to reflect the fact that heading 8469, HTSUS, was deleted, as well as to indicate the transfer of goods to subheading 8472.90. In other words, instead of referring to the since-deleted heading 8469, the new tariff shift rules refer to heading 8472 or subheading 8472.90, as appropriate. Lastly, the rule, revised as described above, is now incorporated into the rule for goods of subheading 8471.60-8472.90.

Example 2: Pursuant to the existing terms of § 102.20(f), the tariff shift rules for subheading 2910.10-2910.90, HTSUS, permit a tariff shift to “dieldrin (ISO, INN) of subheading 2910.40 from any other subheading, except from subheading 2910.90.” The second part of the tariff shift rule for subheading 2910.10-2910.90, HTSUS, permits a tariff shift “to subheading 2910.90 from any other subheading, except from subheading 2910.40.” Under the 2017 amendments to the HTSUS, new subheading 2910.50, HTSUS, was created to provide separately for endrin (ISO), which was previously provided for in subheading 2910.90, HTSUS. This new subheading was created to facilitate monitoring and control of products under the Stockholm Convention on Persistent Organic Pollutants. In order to maintain the original result of the tariff shift rules for subheading 2910.10-2910.90, HTSUS, the tariff shift rules in § 102.20(f) must be amended to reflect the transfer of endrin (ISO) previously classified in subheading 2910.90 to new subheading 2910.50, HTSUS, as follows: “[a] change to dieldrin (ISO, INN) of subheading 2910.40 from any other subheading, except from subheading 2910.50 through 2910.90.” Similarly, the second part of the tariff shift rule for subheading 2910.10-2910.90, HTSUS, must also be amended to reflect the 2017 amendment that resulted in a transfer of endrin (ISO) from subheading 2910.90 to the newly created subheading 2910.50, HTSUS. Additionally, the second tariff shift rule for subheadings 2910.10 through 2910.90 must be amended to provide for “[a] change to subheading 2910.50 through 2910.90,” with the addition of the phrase “outside that group” following the clause “from any other subheading.” The first clause is expanded to include a change to subheadings 2910.50 through 2910.90 to reflect the transfer of endrin (ISO) to subheading 2910.50, HTSUS. The purpose of the additional language “outside that group” after the clause, “from any other subheading,” is to clarify that the tariff shift rule is not triggered if there is a change to a good of subheadings 2910.50 through 2910.90, HTSUS, from a good of subheadings 2910.50 through 2910.90, HTSUS.

Example 3: Pursuant to the existing terms of § 102.21(e)(1), the tariff shift rule for subheadings 4202.32.40, HTSUS, through 4202.32.95, HTSUS, permits a tariff shift to these subheadings “from any other heading, provided that the change is the result of the good being wholly assembled in a single country, territory, or insular possession.” Pursuant to the 2016 amendments to the HTSUS, the eight-digit subheading 4202.32.95, HTSUS, which provided, in relevant part, for “Articles of a kind normally carried in the pocket or in the handbag: With outer surface of sheeting of plastic or of textile materials: With outer surface of textile materials: Other: Other,” was deleted. In its place, subheadings 4202.32.91 through 4202.32.99, HTSUS, were created to cover products that were previously classified in 4202.32.95, HTSUS. As subheading 4202.32.95, HTSUS, no longer exists in the HTSUS, § 102.21(e)(1) must be amended to reflect the applicable renumbering of the tariff shift rule. Specifically, § 102.21(e)(1) must be amended to indicate that the tariff shift rule for subheadings 4202.32.40-4202.32.95, HTSUS, has been renumbered to subheadings 4202.32.40-4202.32.99, HTSUS. The new rule provides for “A change to subheading 4202.32.40 through 4202.32.99 from any other heading, provided that the change is the result of the good being wholly assembled in a single country, territory, or insular possession.”

Example 4: Pursuant to the existing terms of § 102.21(e)(1), the tariff shift rule for subheading 7019.19.28, HTSUS, allows, in relevant part, that “[i]f the good is of staple fibers, a change to subheading 7019.19.28 from any other subheading, except from subheading 7019.19.30 through 7019.19.90, 7019.31.00 through 7019.39.50, and 7019.90, and provided that the change is the result of a spinning process.” Pursuant to the 2022 amendments to the HTSUS, the six-digit subheading 7019.19.28, HTSUS, which provided for “Glass fibers (including glass wool) and articles thereof (for example, yarn, woven fabrics): Silvers, rovings, yarn and chopped strands: Other: Yarns: Colored: Other,” was deleted. In its place, subheading 7019.13.28, HTSUS, was created, which provides for “Glass fibers (including glass wool) and articles thereof (for example, yarn, rovings, woven fabrics): Silvers, rovings, yarn and chopped strands and mats thereof: Other yarn, silvers: Yarns: Colored: Other,” and covers products that were previously classified in 7019.19.28, HTSUS. As subheading 7019.19.28, HTSUS, no longer exists in the HTSUS, § 102.21(e)(1) must be amended to reflect the renumbering of the tariff shift rule. Similarly, amendments to § 102.21(e)(1) must be made to reflect the following: subheading 7019.19.90, HTSUS, was deleted and replaced with subheadings 7019.13.35, HTSUS, and 7019.19.91, HTSUS; subheading 7019.31.00, HTSUS, was deleted and replaced with subheadings 7019.14.00, HTSUS, and 7019.15.00, HTSUS; subheading 7019.32.00, HTSUS, was deleted and replaced with 7019.71.00, HTSUS; subheading 7019.39.10, HTSUS, was deleted and replaced with 7019.80.10, HTSUS; and subheading 7019.39.50, HTSUS, was deleted and replaced with 7019.80.90, HTSUS.

Inapplicability of Notice and Delayed Effective Date

The Administrative Procedure Act (APA) requirements in 5 U.S.C. 553 govern agency rulemaking procedures. Section 553(b) of the APA generally requires notice and public comment before issuance of a final rule. In addition, section 553(d) of the APA generally requires that a final rule have a thirty-day delayed effective date. The APA, however, provides exceptions from the prior notice and public comment requirement and the delayed effective date requirements, when an agency for good cause finds that such procedures are impracticable, unnecessary, or contrary to the public interest.

Pursuant to 5 U.S.C. 553(b)(B), CBP has determined for good cause that it would be unnecessary and contrary to the public interest to delay publication of this rule in final form pending an opportunity for public comment because the technical corrections set forth in this document merely conform the tariff shift rules in the regulations to the current HTSUS and will facilitate trade by ensuring that country of origin determinations made using the regulations are consistent with the HTSUS. In addition, pursuant to 5 U.S.C. 553(d)(3), CBP has determined that there is good cause for this final rule to become effective immediately upon publication for the same reasons.

Executive Orders 12866

These amendments do not meet the criteria for a “significant regulatory action” as specified in Executive Order 12866. 58 FR 51735 (October 4, 1993).

Regulatory Flexibility Act

Because this document is not subject to the notice and public procedure requirements of 5 U.S.C. 553, it is not subject to the provisions of the Regulatory Flexibility Act (5 U.S.C. 601 et seq.).

Signing Authority

This regulation is being issued in accordance with 19 CFR 0.1(a)(1) pertaining to the Secretary of the Treasury's authority (or that of his/her delegate) to approve regulations related to customs revenue functions. Pursuant to Treasury Directive 28-03, CBP retains authority to sign a document making non-substantive technical corrections to a previously issued regulation. For this reason, the CBP Commissioner is the proper official to sign this document.

Chris Magnus, the Commissioner of CBP, having reviewed and approved this document, has delegated the authority to electronically sign this document to Robert F. Altneu, who is the Director of the Regulations and Disclosure Law Division for CBP, for purposes of publication in the Federal Register.

List of Subjects in 19 CFR Part 102

Canada, Mexico, Reporting and recordkeeping requirements, Trade agreements.

Amendments to the CBP Regulations

For the reasons set forth above, part 102 of title 19 of the Code of Federal Regulations (19 CFR part 102) is amended as set forth below:

PART 102—RULES OF ORIGIN

1. The authority citation for part 102 continues to read as follows:

Authority: 19 U.S.C. 66, 1202 (General Note 3(i), Harmonized Tariff Schedule of the United States, 1624, 3592, 4513.

2. In § 102.20, the table is amended by:

a. Removing the entries for: “0305.10”, “0403.10”, and “0407-0410” under paragraph (a); “1601-1605”, “1704”, and “2202.90” under paragraph (d); “2707.10-2707.99” (two entries) under paragraph (e); “2811.19”, “2812.10-2813.90”, “2844.40-2844.50”, “2848”, “2853”, “2903.11-2903.39”, “2903.81-2904.90”, “2914.40-2914.70”, “3002.10-3002.90”, “3003.40”, “3003.90”, “3004.40”, “3004.90”, “3006.20-3006.60”, “3103.10”, “3204.19”, “3402.11”, “3402.12-3402.20”, “3808.50”, “3808.91”, and “3824.71-3824.90” under paragraph (f); “6603.10” under paragraph (k); “6812.92-6812.93”, “6812.99”, ” 6815.10-6815.99”, “7019.31-7019.32”, “7019.39”, “7019.40-7019.59”, and “7019.90” under paragraph (l); “8456.10-8456.90”, “8469.00”, “8517.70”, “8519.50”, “8519.92-8519.93”, “8519.99”, “8525.80”, “8528.41”, “8528.51”, “8528.61”, “8539.41-8539.49”, and “8543.20-8543.30” under paragraph (o); “8801-8802” and “8803.10-8803.90” under paragraph (p); “9006.10-9006.69” under paragraph (q); “9401.90”, “9403.90”, and “9405.10-9405.60” under paragraph (s); and “9701.10-9701.90” under paragraph (t);

b. Revising the entries for “0307” and “0308” under paragraph (a); “1806.90”, “1901.90”, “1904.90”, and “2106.90” under paragraph (d); “2707.10-2707.99” under paragraph (e); “2806.10-2806.20”, “2852”, “2910.10-2910.90”, “2918.11-2918.22”, “2920.11-2926.90”, “2929.10-2930.90”, “2933.11-2934.99”, “2937-2941”, “3001.10-3001.90”, “3004.50”, “3808.92”, “3808.93”, “3808.94”, “3808.99”, “3821”, “3822”, and “3825.90” under paragraph (f); “3901-3915” under paragraph (g); “Chapter 42 Note” and “4201” under paragraph (h); “4412” under paragraph (i); “Chapter 64 Note” under paragraph (k); “6812.80”, “6812.99”, “Chapter Note 70” under paragraph (l); “8103.20-8113.00” under paragraph (n); “8471.60-8472.90”, “8479.10-8479.89”, ”, “8486.10-8486.40”, “8486.90”, “8517.11-8517.69”, “8543.70”, and “8548” under paragraph (o); “8708.40” under paragraph (p); and “9401.10-9401.80”, “9402”, “9403.10-9403.89”, “9503”, and “Chapter 96 Note” under paragraph (s); and

c. Adding entries in numerical order for “0309.10”, “0309.90”, “0403.20”, “0407-0409”, “0410.10”, and “0410.90” under paragraph (a); “1601-1602.50”, “1602.90”, “1603-1605”, “1704.10”, “1704.90”, “2202.91-2202.99”, “2404.11”, “2404.12”, “2404.19”, “2404.91”, and “2404.92-2404.99” under paragraph (d); “2811.12-2811.19”, “2812.11-2813.90”, “2844.41-2844.44”, “2844.50”, “2853.10-2853.90”, “2903.41-2903.69”, “2903.82-2904.99”, “2914.40-2914.61”, “2914.62-2914.69”, “2914.71-2914.79”, “3002.12-3002.90”, “3003.41-3003.49”, “3003.60-3003.90”, “3004.41-3004.49”, “3004.60-3004.90”, “3006.30-3006.60”, “3006.93”, “3103.11-3103.19”, “3204.18-3204.19”, “3402.31-3402.39”, “3402.41-3402.50”, “3808.52-3808.59”, “3808.61-3808.91”, “3826”, and “3827.11-3827.90” under paragraph (f); “4441-4421” under paragraph (i); “Chapter 65 Note” under paragraph (k);, “6815.11-6815.19”, “6815.20-6815.99”, “7019.11-7019.13”, “7019.14-7019.19”, “7019.61”, “7019.62”, “7019.63-7019.66”, “7019.69”, “7019.71”, “7019.72-7019.73”, “7019.80”, and “7019.90” under paragraph (l); “7419.20-7419.80” under paragraph (n); “8456.11-8456.90”, “8485.10-8485.90”, “8517.71-8517.79”, “8524.11-8524.99”, “8525.81-8525.89”, “8528.42”, “8528.52”, “8528.62”, “8539.41-8539.52”, “8543.20-8543.40”, and “8549” under paragraph (o); “8708.22”, “8801-8806”, and “8807.10-8807.90” under paragraph (p); “9006.30-9006.69” under paragraph (q); “9401.91-9401.99”, “9403.91-9403.99”, “9405.11-9405.69”, and “9620.00” under paragraph (s); and “9702.21-9701.99” under paragraph (t).

The revisions and additions read as follows:

§ 102.20 Specific rules by tariff classification.

* * * * *

HTSUS | Tariff shift and/or other requirements
(a) | Section I: Chapter 1 through 5
* * * * * * *
0307 | A change to heading 0307, other than a change to smoked goods of heading 0307, from any other chapter; or
| A change to smoked goods of heading 0307 from other goods of chapter 3 or from any other chapter, except from chapter 16; or
| A change to any good of heading 0307 from a smoked good of heading 0307.
0308 | A change to heading 0308, other than a change to smoked goods of heading 0308, from any other chapter; or
| A change to smoked goods of heading 0308 from any other good of chapter 3 or from any other chapter, except from chapter 16; or
| A change to any good of heading 0308 from a smoked good of heading 0308.
0309.10 | A change to subheading 0309.10 from any other subheading.
0309.90 | A change to subheading 0309.90, from any other chapter; or
| A change to edible meals and flours from within chapter 3; or
| A change to a good of subheading 0309.90 from a smoked good of heading 0306, 0307 or 0308.
* * * * * * *
0403.20 | A change to subheading 0403.20 from any other heading.
* * * * * * *
0407-0409 | A change to heading 0407 through 0409 from any other chapter.
0410.10 | A change to subheading 0410.10 from any other chapter; or
| A change to edible meals and flours of subheading 0410.10 from any product other than edible meals and flours of Chapter 2.
0410.90 | A change to subheading 0410.90 from any other chapter.
* * * * * * *
(d) | Section IV: Chapters 16 through 24
1601-1602.50 | A change to heading 1601 through 1602.50 from any other chapter, except from smoked products of heading 0306 through 0308.
1602.90 | A change to subheading 1602.90 from any other chapter, except from smoked products of heading 0306 through 0308; or
| A change to subheading 1602.90 from any other subheading, except from Chapter 4, Chapter 17, heading 1006, heading 2009, wild rice of subheading 1008.90, subheading 1901.90 or subheading 2202.91 through 2202.92; or
| A change to subheading 1602.90 from Chapter 4 or subheading 1901.90, provided that the good contains no more than 50 percent by weight of milk solids; or
| A change to subheading 1602.90 from Chapter 17, provided that the good contains less than 65 percent by dry weight of sugar; or
| A change to subheading 1602.90 from heading 2009 or subheading 2202.91 through 2202.92, provided that a single juice ingredient of foreign origin, or juice ingredients from a single foreign country, constitute in single strength form no more than 60 percent by volume of the good.
1603-1605 | A change to heading 1603 through 1605 from any other chapter, except from smoked products of heading 0306 through 0308.
* * * * * * *
1704.10 | A change to heading 1704.10 from any other heading.
1704.90 | A change to subheading 1704.90 from any other heading, except from subheading 0306.93 or goods containing more than 20% by weight of edible insects of subheading 1602.90.
* * * * * * *
1806.90 | A change to subheading 1806.90 from any other subheading, except from goods containing more than 20% by weight of edible insects of subheading 1602.90.
* * * * * * *
1901.90 | A change to subheading 1901.90 from any other heading, except from goods containing more than 20% by weight of edible insects of subheading 1602.90.
* * * * * * *
1904.90 | A change to subheading 1904.90 from any other heading, except from heading 1006, wild rice of subheading 1008.90, or goods containing more than 20% by weight of edible insects of subheading 1602.90.
* * * * * * *
2106.90 | A change to a good of subheading 2106.90, other than to compound alcoholic preparations, from any other subheading, except from Chapter 4, Chapter 17, heading 2009, subheading 2404.91, subheading 3006.93, subheading 1602.90, subheading 1901.90, subheading 2202.91 or subheading 2202.99; or
| A change to subheading 2106.90 from Chapter 4 or subheading 1901.90, provided that the good contains no more than 50 percent by weight of milk solids; or
| A change to subheading 2106.90 from Chapter 17, provided that the good contains less than 65 percent by dry weight of sugar; or
| A change to subheading 2106.90 from heading 2009, subheading 2202.91 or subheading 2202.99, provided that a single juice ingredient of foreign origin, or juice ingredients from a single foreign country, constitute in single strength form no more than 60 percent by volume of the good; or
| A change to compound alcoholic preparations of subheading 2106.90 from any other subheading, except from subheading 2208.20 through 2208.50.
* * * * * * *
2202.91-2202.99 | A change to subheading 2202.91 through 2202.99 from any other subheading, except from Chapter 4 or heading 1901, 2009, or 2106; or
| A change to subheading 2202.91 through 2202.99 from Chapter 4 or heading 1901, provided that the good contains no more than 50 percent by weight of milk solids; or
| A change to subheading 2202.91 through 2202.99 from heading 2009 or subheading 2106.90, provided that a single juice ingredient of foreign origin, or juice ingredients from a single foreign country, constitute in single strength form no more than 60 percent by volume of the good.
* * * * * * *
2404.11 | A change to subheading 2404.11 from any other subheading, except from heading 2403 and except from subheading 2404.19.
2404.12 | A change to subheading 2404.12 from any other subheading, provided that no more than 60 percent by weight of the good classified in this subheading is attributable to one substance or compound, except from subheading 3824.99.
2404.19 | A change to subheading 2404.19 from any other subheading, except from heading 2403, subheading 2404.11, and subheading 3824.99.
2404.91 | A change to subheading 2404.91 from any other subheading, except from subheading 2106.90, except from Chapter 4, Chapter 17, heading 2009, subheading 3006.93, subheading 1602.90, subheading 1901.90, subheading 2202.91 or subheading 2202.99; or
| A change to subheading 2404.91 from Chapter 4 or subheading 1901.90, provided that the good contains no more than 50 percent by weight of milk solids; or
| A change to subheading 2404.91 from Chapter 17, provided that the good contains less than 65 percent by dry weight of sugar; or
| A change to subheading 2404.91 from heading 2009, subheading 2202.91 or subheading 2202.90, provided that a single juice ingredient of foreign origin, or juice ingredients from a single foreign country, constitute in single strength form no more than 60 percent by volume of the good; except from subheading 2208.20 through 2208.50.
2404.92-2404.99 | A change to subheading 2404.92 through 2404.99 from any other subheading, provided that no more than 60 percent by weight of the good classified in this subheading is attributable to one substance, except from subheading 3824.99.
* * * * * * *
(e) | Section V: Chapters 25 through 27
* * * * * * *
2707.10-2707.99 | A change to subheading 2707.10 through 2707.99 from any other heading; or
| A change to phenols of subheading 2707.99 from any other subheading or from any other good of subheading 2707.99, provided that the good resulting from such change is the product of a chemical reaction; or
| A change to any other good of subheading 2707.99 from phenols of subheading 2707.99 or from any other subheading, provided that the good resulting from such change is the product of a chemical reaction; or
| A change to subheading 2707.10 through 2707.99 from any other subheading, including any subheading within that group, provided that the good resulting from such change is the product of a chemical reaction.
* * * * * * *
(f) | Section VI: Chapters 28 through 38
* * * * * * *
2806.10-2806.20 | A change to subheading 2806.10 through 2806.20 from any other subheading, including another subheading within that group.
* * * * * * *
2811.12-2811.19 | A change to subheading 2811.12 through 2811.19 from any other subheading, except from subheading 2811.12 or 2811.22.
* * * * * * *
2812.11-2813.90 | A change to subheading 2812.11 through 2813.90 from any other subheading, including another subheading within that group, except from subheading 2812.11 through 2812.19.
* * * * * * *
2844.41-2844.44 | A change to subheading 2844.41 through 2844.44 from any other subheading outside that group.
2844.50 | A change to subheading 2844.50 from any other subheading.
* * * * * * *
2852 | A change to other metal oxides, hydroxides or peroxides of heading 2852 from any other good of heading 2852 or from any other heading, provided that the good is the product of a “chemical reaction”, as defined in Note 1, except from subheading 2825.90; or
| A change to other fluorides of heading 2852 from any other good of heading 2852 or from any other heading, except from subheading 2826.19; or
| A change to other chlorides of heading 2852 from any other good of heading 2852 or from any other heading, except from subheading 2827.39; or
| A change to other bromides or to bromide oxides from any other good of heading 2852 or from any other heading, except from subheading 2827.59; or
| A change to iodides or to iodide oxides of heading 2852 from any other good of heading 2852 or from any other heading, except from subheading 2827.60; or
| A change to other chlorates of heading 2852 from any other good of heading 2852 or from any other heading, except from subheading 2829.19; or
| A change to other perchlorates, bromotes, perbromates, iodates or periodates of heading 2852 from any other good of heading 2852 or from any other heading, except from subheading 2829.90; or
| A change to other sulphides or polysulphides, whether or not chemically defined, of heading 2852 from any other good of heading 2852 (except for sulphides or polysulphides of subheading 2852.90) or from any other heading, except from subheading 2830.90; or
| A change to other sulfates of heading 2852 from any other good of heading 2852 or from any other heading, except from heading 2520 or from subheading 2833.29; or
| A change to other nitrates of heading 2852 from any other good of heading 2852 or from any other heading, except from subheading 2834.29; or
| A change to other phosphates from any other good of heading 2852 or from any other heading, except from subheading 2835.29; or
| A change to polyphosphates other than those of sodium triphosphate (sodium tripolyphosphate) of subheading 2852.90 from any other good of heading 2852 or from any other heading, except from subheading 2835.39; or
| A change to other cyanides or to cyanide oxides of heading 2852 from any other good of heading 2852 or from any other heading, except from subheading 2837.19; or
| A change to complex cyanides of heading 2852 from any other good of heading 2852 or from any other heading, except from subheading 2837.20; or
| A change to fulminates, cyanates or thiocyanates of heading 2852 from any other good of heading 2852 or from any other heading; or
| A change to any other good of subheading 2852.90 from fulminates, cyanates, and thiocyanates of subheading 2852.90 or from any other subheading, provided that the good classified in subheading 2852.90 is the product of a “chemical reaction” as defined in Note 1; or
| A change to other chromates, dichromates or peroxochromates of heading 2852 from any other good of heading 2852 or any other heading, except from heading 2610, or from subheading 2841.50; or
| A change to double or complex silicates, including aluminosilicates, of subheading 2852.90 from any other good of heading 2852 or from any other heading, except from subheading 2842.10; or
| A change to other salts of inorganic acids or to peroxoacids, other than azides, of heading 2852 from any other good of heading 2852 or from any other heading, provided that the good classified in heading 2852 is the product of a “chemical reaction” as defined in Note 1, except from subheading 2842.90; or
| A change to other silver compounds of heading 2852 from any other good of heading 2852 or from any other heading, except from subheading 2843.29; or
| A change to phosphides, excluding ferrophosphorus, of subheading 2852.90 from any other good of heading 2852 or any other heading, except from subheading 2853.90; or
| A change to carbides of subheading 2852.90 from any other good of heading 2852 or any other heading, except from subheading 2849.90; or
| A change to hydrides, nitrides, azides, silicides and borides, other than compounds which are also carbides of heading 2849, of subheading 2852.90 from any other good of heading 2852 or any other heading, except from heading 2850; or
| A change to derivatives containing only sulpho groups, their salts and esters from any other good of heading 2852 or from any other heading, except from heading 2908; or
| A change to palmitic acid, stearic acid, their salts or their esters from any other good of heading 2852 or from any other heading, except from subheading 2915.70; or
| A change to oleic, linolenic or linolenic acids, their salts or their esters from any other good of heading 2852 or from any other heading, except from subheading 2916.15; or
| A change to benzoic acid, its salts or its esters from any other good of heading 2852 or from any other heading, except from subheading 3301.90 or subheading 2916.31; or
| A change to lactic acid, its salts or its esters from any other good of heading 2852 or from any other heading, except 2918.11; or
| A change to other organo-inorganic compounds of heading 2852 from any other good of heading 2852 or from any other heading, except from heading 2931; or
| A change to nucleic acids and their salts or other heterocyclic compounds of subheading 2852.90 from any other good of heading 2852 or any other heading, except from subheading 2934.92 through 2934.99; or
| A change to tanning extracts of vegetable origin or tannins and their salts, ethers, esters, and other derivatives of 2852.90 from any other good of heading 2852 or any other heading, except from subheading 3201.90; or
| A change to caseinate and other casein derivatives or casein glues of subheading 2852.90 from any other good of heading 2852 or any other heading, except from subheading 3501.90; or
| A change to albumins, albuminates, and other albumin derivatives of subheading 2852.90 from any other good of heading 2852 or any other heading, except from subheading 3502.90; or
| A change to peptones and their derivatives, other protein substances and their derivatives, not elsewhere specified or included, or hide powder of subheading 2852.90 from any other good of heading 2852 or any other heading, except from heading 3504; or
| A change to naphthenic acids, their water-insoluble salts, or their esters of subheading 2852.90 from any other good of heading 2852 or any other heading; or
| A change to prepared binders for foundry moulds or cores or chemical products and preparations of the chemical or allied industries of subheading 2852.90 from naphthenic acids, their water-insoluble salts, or their esters of subheading 2852.90 or any other subheading, provided that no more than 60 percent by weight of the good classified in this subheading is attributable to one substance or compound, except from other chemical products or preparations of the chemical or allied industries (including those consisting of mixtures of natural products), not elsewhere specified or included, of subheading 3827.11 through 3827.14 or 3827.31 through 3827.90; or
| A change to prepared binders for foundry moulds or cores or chemical products and preparations of the chemical or allied industries of subheading 2852.90 from any other subheading, provided that no more than 60 percent by weight of the good classified in this subheading is attributable to one substance or compound.
2853.10-2853.90 | A change to subheading 2853.10 through 2853.90 from any other heading.
* * * * * * *
2903.41-2903.69 | A change to subheading 2903.41 through 2903.69 from any subheading outside that group; or
| A change to any other good of subheading 2903.41 through 2903.69 from any other subheading, including another subheading within that group.
* * * * * * *
2903.82-2904.99 | A change to aldrin (ISO), chlordane (ISO) or heptachlor (ISO) of subheading 2903.82 from any other subheading, except from subheading 2903.83 through 2903.89; or
| A change to any other good of subheading 2903.83 through 2903.89 from any other subheading outside that group, except from subheading 2903.82; or
| A change to subheading 2903.81 through 2904.99 from any other subheading within that group.
* * * * * * *
2910.10-2910.90 | A change to dieldrin (ISO, INN) of subheading 2910.40 from any other subheading, except from subheading 2910.50 through 2910.90; or
| A change to subheading 2910.50 through 2910.90 from any other subheading outside that group, except from subheading 2910.40; or
| A change to any other good of subheading 2910.10 through 2910.90 from any other subheading, including another subheading within that group.
* * * * * * *
2914.40-2914.61 | A change to subheading 2914.40 through 2914.61 from any other subheading, including another subheading within that group, except from subheading 3301.90.
2914.62-2914.69 | A change to subheading 2914.62 through 2914.69 from any other subheading outside that group, except from subheading 3301.90.
2914.71-2914.79 | A change to subheading 2914.71 through 2914.79 from any other subheading outside that group, except from subheading 3301.90.
* * * * * * *
2918.11-2918.22 | A change to subheading 2918.18 from any other subheading, except from subheading 2918.17 or 2918.19; or
| A change to any other good of subheading 2918.17 or 2918.19 from any other subheading outside that group, except from subheading 2918.18; or
| A change to subheading 2918.11 through 2918.22 from any other subheading, including another subheading within that group.
* * * * * * *
2920.11-2926.90 | A change to subheading 2920.11 through 2920.19 from any subheading outside that group; or
| A change to diethylamine and its salts of subheading 2921.12 through 2921.19 from any other good of subheading 2921.19 through 2921.19 or any other subheading; or
| A change to any other good of subheading 2921.12 through 2921.19 from diethylamine and its salts of subheading 2921.12 through 2921.19 or from any other subheading; or
| A change to anisidines, dianisidines, phenetidines, and their salts of subheading 2922.29 from any other good of subheading 2922.29 or any other subheading; or
| A change to any other good of subheading 2922.29 from anisidines, dianisidines, phenetidines, and their salts of subheading 2922.29 or from any other subheading; or
| A change to subheading 2924.12 from any other subheading, except from subheading 2924.19; or
| A change to subheading 2924.19 from any other subheading, except from subheading 2924.12; or
| A change to subheading 2925.21 through 2925.29 from any subheading outside that group; or
| A change to any other good of subheading 2920.11 through 2926.90 from any other subheading, including another subheading within that group.
* * * * * * *
2929.10-2930.90 | A change to subheading 2930.80 from any other subheading, except from subheading 2930.10 through 2930.90; or
| A change to dithiocarbonates (xanthates) of subheading 2930.90 from any other good of subheading 2930.10 through 2930.90 or from any other subheading;
| A change to any other good of subheading 2930.10 through 2930.90 from dithiocarbonates (xanthates) of subheading 2930.90 or from any other subheading, except from subheading 2930.80; or
| A change to any other good of subheading 2929.10 through 2930.90 from any other subheading, including another subheading within that group.
* * * * * * *
2933.11-2934.99 | A change to subheading 2933.11 through 2934.99 from any other subheading, including another subheading within that group, except for a change to subheading 2933.29 from heterocyclic compounds with nitrogen hetero-atom(s) only of subheading 3002.12 through 3002.15, subheading 3822.11 through 3822.12 or subheading 3822.19 and except for a change to subheading 2934.99 from nucleic acids and their salts or other heterocyclic compounds of subheading 2852.90 or subheading 3002.12 through 3002.15, subheading 3822.11 through 3822.12 or subheading 3822.19.
* * * * * * *
2937-2941 | A change to heading 2937 through 2941 from any other heading, including another heading within that group, except a change to concentrates of poppy straw of subheading 2939.11 from poppy straw extract of subheading 1302.19 and except for a change to subheading 2937.90 from other hormones, prostagladins, thromboxanes and leukotrienes, natural or reproduced by synthesis, derivatives and structural analogues thereof, including chain modified polypeptides, used primarily as hormones of subheading 3002.13 through 3002.15.
* * * * * * *
3001.10-3001.90 | A change to subheading 3001.20 through 3001.90 from any other subheading, including another subheading within that group, except a change from subheading 3006.92.
* * * * * * *
3002.12-3002.90 | A change to subheading 3002.12 through 3002.15 from any other subheading outside that group, except a change from subheading 3006.92, subheading 3822.11 through 3822.12 or subheading 3822.19;
| A change to subheading 3002.20 through 3002.90 from any other subheading, except a change from subheading 3006.92; or
| A change to imines and their derivatives, and salts thereof, other than chlordimeform (ISO) of subheading 3002.12 through 3002.15, subheading 3822.11 through 3822.12 or subheading 3822.19 from any other subheading outside that group, except subheading 2925.21 through 2925.29;
| A change to compounds containing an unfused imidazole ring (whether or not hydrogenated) in the structure of subheading 3002.12 through 3002.15, subheading 3822.11 through 3822.12 or subheading 3822.19 from any other subheading outside that group, except from subheading 2933.29; or
| A change to nucleic acids and their salts or other heterocyclic compounds (other than those classified in subheading 2934.10 through 2934.91) of subheading 3002.12 through 3002.15, subheading 3822.11 through 3822.12 or subheading 3822.19 from any other subheading outside that group, except from subheading 2934.92 through 2934.99; or
| A change to hormones, prostaglandins, thromboxanes and leukotrienes, natural or reproduced by synthesis or derivatives, and structural analogues thereof, including chain modified polypeptides, used primarily as hormones (other than those classified in subheading 2937.11 through 2937.50) of subheading 3002.12 through 3002.15, subheading 3822.11 through 3822.12 or subheading 3822.19 from any other heading, except from heading 2937; or
| A change to other polyethers of subheading 3002.12 through 3002.15, subheading 3822.11 through 3822.12 or subheading 3822.19 from any other heading, except from heading 3907, provided that the domestic polymer content is no less than 40 percent by weight of the total polymer count.
* * * * * * *
3003.41-3003.49 | A change to subheading 3003.41 through 3003.49 from any other subheading outside that group, except from heading 1211, subheading 1302.11, 1302.14, 1302.19, 1302.20, 1302.39, or 3006.92, or alkaloids or derivatives thereof classified in Chapter 29.
3003.60-3003.90 | A change to subheading 3003.60 through 3003.90 from any other subheading outside that group, provided that the domestic content of the therapeutic or prophylactic component is no less than 40 percent by weight of the total therapeutic or prophylactic content, or except from subheading 3006.92.
* * * * * * *
3004.41-3004.49 | A change to subheading 3004.41 through 3004.49 from any other subheading outside that group, except from heading 1211, subheading 1302.11, 1302.14, 1302.19, 1302.20, 1302.39, 3003.40, or 3006.92, or alkaloids or derivatives thereof classified in Chapter 29.
3004.50 | A change to subheading 3004.50 from any other subheading, except from subheading 3003.60 through 3003.90, subheading 3006.92 or vitamins classified in Chapter 29 or products classified in heading 2936.
3004.60-3004.90 | A change to subheading 3004.60 through 3004.90 from any other subheading outside that group, except from subheading 3003.60 through 3003.90 or 3006.92, and provided that the domestic content of the therapeutic or prophylactic component is no less than 40 percent by weight of the total therapeutic or prophylactic content.
* * * * * * *
3006.30-3006.60 | A change to subheading 3006.30 through 3006.60 from any other subheading, including another subheading within that group, except from subheading 3006.92, 3822.13 or 3825.30.
* * * * * * *
3006.93 | A change to subheading 3006.93 from any other subheading, except from subheading 3003.90 or 3006.92, and provided that the domestic content of the therapeutic or prophylactic component is no less than 40 percent by weight of the total therapeutic or prophylactic content; or
| A change to a good of subheading 3006.93, from any other subheading, except from Chapter 4, Chapter 17, heading 2009, subheading 1901.90, subheading 2202.91 or subheading 2202.99; or
| A change to subheading 3006.93 from Chapter 17, provided that the good contains less than 65 percent by dry weight of sugar.
* * * * * * *
3103.11-3103.19 | A change to subheading 3103.11 through 3103.19 from any other subheading outside that group.
* * * * * * *
3204.18-3204.19 | A change to subheading 3204.18 through 3204.19 from any other subheading outside that group, except from subheading 3204.11 through 3204.17.
* * * * * * *
3402.31-3402.39 | A change to subheading 3402.31 through 3402.39 from any other subheading outside that group, except from mixed alkylbenzenes of heading 3817.
3402.41-3402.50 | A change to subheading 3402.41 through 3402.50 from any other subheading, including another subheading within that group.
* * * * * * *
3808.52-3808.59 | A change to insecticides from any other subheading, except from vegetable saps or extracts of pyrethrum or of the roots of plants containing rotenone of subheading 1302.19 or from subheading 3808.61 through 3808.91 or from any insecticide classified in Chapter 28 or 29; or
| A change to fungicides from any other subheading, except from fungicides classified in Chapter 28 or 29 or from subheading 3808.92; or
| A change to herbicides, anti-sprouting products and plant-growth regulators from any other subheading, except from herbicides, anti-sprouting products and plant-growth regulators classified in Chapter 28 or 29 or from subheading 3808.93; or
| A change to a mixture of herbicides, anti-sprouting products and plant-growth regulators from any other subheading, provided that the mixture is made from two or more active ingredients and a domestic active ingredient constitutes no less than 40 percent by weight of the total active ingredients; or
| A change to disinfectants from any other subheading, except from subheading 3808.94; or
| A change to any other good of subheading 3808.52 through 3808.59 from any other good of subheading 3808.52 through 3808.59 or from any other subheading, except from rodenticides and other pesticides classified in Chapter 28 or 29 or from subheading 3808.99; or
| A change to a mixture of subheading 3808.52 through 3808.59 from any other subheading outside that group, provided that the mixture is made from two or more active ingredients and a domestic active ingredient constitutes no less than 40 percent by weight of the total active ingredients, except from subheading 3808.99.
3808.61-3808.91 | A change to subheading 3808.61 through 3808.91 from any other subheading outside that group, except from vegetable saps or extracts of pyrethrum or of the roots of plants containing rotenone of subheading 1302.19 or from any insecticide classified in Chapter 28 or 29 or subheading 3808.52 through 3808.59.
3808.92 | A change to subheading 3808.92 from any other subheading, except from fungicides classified in Chapter 28 or 29, or subheading 3808.52 through 3808.59.
3808.93 | A change to subheading 3808.93 from any other subheading, except from herbicides, anti-sprouting products or plant-growth regulators classified in Chapter 28 or 29 or subheading 3808.52 through 3808.59; or
| A change to a mixture of subheading 3808.93 from any other subheading, provided that the mixture is made from two or more active ingredients and a domestic active ingredient constitutes no less than 40 percent by weight of the total active ingredients.
3808.94 | A change to subheading 3808.94 from any other subheading, except from disinfectants of subheading 3808.52 through 3808.59.
3808.99 | A change to subheading 3808.99 from any other subheading, except from rodenticides or other pesticides classified in Chapter 28 or 29 or subheading 3808.52 through 3909.59; or
| A change to a mixture of subheading 3808.99 from any other subheading, provided that the mixture is made from two or more active ingredients and a domestic active ingredient constitutes no less than 40 percent by weight of the total active ingredients, except from rodenticides or other pesticides classified in Chapter 28 or 29 or subheading 3808.52 through 3808.59.
* * * * * * *
3821 | A change to heading 3821 from any other heading.
3822 | A change to heading 3822 from any other heading, except from subheading 3002.12 through 3002.15, 3502.90, heading 3504, subheading 3822.11 through 3822.12, or subheading 3822.19.
* * * * * * *
3825.90 | A change to subheading 3825.90 from any other subheading, except from subheading 3824.84 through 3824.99, and provided that no more than 60 percent by weight of the good classified in this subheading is attributable to one substance or compound.
3826 | A change to biodiesel and mixtures, not containing or containing less than 70 percent by weight of petroleum oils or oils obtained from bituminous materials of subheading 3826.00 from naphthenic acids, their water-insoluble salts, or their esters of subheading 3824.99 or any other subheading, provided that no more than 60 percent by weight of the good classified in this subheading is attributable to one substance or compound, except from other chemical products or preparations of the chemical or allied industries (including those consisting of mixtures of natural products), not elsewhere specified or included, of subheading 3827.11 through 3827.14 or 3827.31 through 3827.90; or
| A change to biodiesel and mixtures, not containing or containing less than 70 percent by weight of petroleum oils or oils obtained from bituminous materials of subheading 3826.00 from any other subheading, provided that no more than 60 percent by weight of the good classified in this subheading is attributable to one substance or compound.
3827.11-3827.90
| A change to subheading 3827.11 from other chemical products or preparations of the chemical or allied industries (including those consisting of mixtures of natural products), not elsewhere specified or included, of subheading 3827.11 or from any other subheading, provided that no more than 60 percent by weight of the good classified in this subheading is attributable to one substance or compound; or
| A change to other chemical products or preparations of the chemical or allied industries (including those consisting of mixtures of natural products), not elsewhere specified or included of subheading 3827.11 from any other good of subheading 3827.11 or from any other subheading, except from other chemical products or preparations of the chemical or allied industries (including those consisting of mixtures of natural products), not elsewhere specified or included, of subheading 2852.90, 3827.12 through 3827.14, 3827.31 through 3827.90, 3824.84 through 3824.99, or 3826.00.
| A change to subheading 3827.20 from any other subheading, provided that no more than 60 percent by weight of the good classified in this subheading is attributable to one substance or compound, except from other mixtures containing perhalogenated derivatives of acyclic hydrocarbons containing two or more different halogens of subheading 3827.12 through 3827.14, or 3827.31 through 3827.90; or
| A change to other mixtures of halogenated hydrocarbons of subheading 3827.12 from any other subheading, provided that no more than 60 percent by weight of the good classified in this subheading is attributable to one substance or compound, except from other chemical products or preparations of the chemical or allied industries (including those consisting of mixtures of natural products), not elsewhere specified or included, of subheading 2852.90, 3827.11, 3827.31 through 3827.90, 3824.84 through 3824.99, or 3826.00; or
| A change to other mixtures containing perhalogenated derivatives of acyclic hydrocarbons containing two or more different halogens of subheading 3827.12 from any other subheading, provided that no more than 60 percent by weight of the good classified in this subheading is attributable to one substance or compound, except from other mixtures containing perhalogenated derivatives of acyclic hydrocarbons containing two or more different halogens of subheading 3827.20, or 3827.31 through 3827.90; or
| A change to other mixtures of halogenated hydrocarbons of subheading 3827.31 through 3827.39 from any other subheading outside that group, provided that no more than 60 percent by weight of the good classified in this subheading is attributable to one substance or compound, except from other chemical products or preparations of the chemical or allied industries (including those consisting of mixtures of natural products), not elsewhere specified or included, of subheading 2852.90, 3827.11 through 3827.14, 3827.40 through 3827.90, or 3826.00, and except from subheading 3824.84 through 3824.99; or
| A change to other mixtures containing perhalogenated derivatives of acyclic hydrocarbons containing two or more different halogens of subheading 3827.12 from any other subheading, provided that no more than 60 percent by weight of the good classified in this subheading is attributable to one substance or compound, except from other mixtures containing perhalogenated derivatives of acyclic hydrocarbons containing two or more different halogens of subheading 3827.13 through 3827.20, or 3827.31 through 3827.90; or
| A change to other mixtures of halogenated hydrocarbons of subheading 3827.31 through 3827.39 from any other subheading outside that group, provided that no more than 60 percent by weight of the good classified in this subheading is attributable to one substance or compound, except from other chemical products or preparations of the chemical or allied industries (including those consisting of mixtures of natural products), not elsewhere specified or included, of subheading 2852.90, 3827.11 through 3827.14, 3827.31 through 3827.90, or 3826.00, and except from subheading 3824.90; or
| A change to other mixtures containing perhalogenated derivatives of acyclic hydrocarbons containing two or more different halogens of subheading 3827.31 through 3827.39 from any other subheading, provided that no more than 60 percent by weight of the good classified in this subheading is attributable to one substance or compound, except from other mixtures containing perhalogenated derivatives of acyclic hydrocarbons containing two or more different halogens of subheading 3827.12 through 3827.20 and 3827.40 through 3827.90; or
| A change to subheading 3827.13 from any other subheading, provided that no more than 60 percent by weight of the good classified in this subheading is attributable to one substance or compound, except from other chemical products or preparations of the chemical or allied industries (including those consisting of mixtures of natural products), not elsewhere specified or included, of subheading 2852.90, 3827.11 through 3827.12, 3827.14, 3827.31 through 3827.39, 3827.40 through 3827.90, 3824.84 through 3824.99, or 3826.00; or
| A change to subheading 3827.14 from any other subheading, provided that no more than 60 percent by weight of the good classified in this subheading is attributable to one substance or compound, except from other chemical products or preparations of the chemical or allied industries (including those consisting of mixtures of natural products), not elsewhere specified or included, of subheading 2852.90, 3827.11 through 3827.13, 3827.31 through 3827.90, 3824.94 through 3824.99, or 3826.00; or
| A change to subheading 3827.40 from any other subheading, provided that no more than 60 percent by weight of the good classified in this subheading is attributable to one substance or compound, except from other chemical products or preparations of the chemical or allied industries (including those consisting of mixtures of natural products), not elsewhere specified or included, of subheading 2852.90, 3827.11 through 3827.14, 3827.31 through 3827.39, 3827.51 through 3827.90, 3824.84 through 3824.99, or 3826.00; or
| A change to subheading 3827.51 through 3827.69 from any other subheading outside that group, provided that no more than 60 percent by weight of the good classified in this subheading is attributable to one substance or compound, except from other mixtures containing perhalogenated derivatives of acyclic hydrocarbons containing two or more different halogens of subheading 3827.12 through 3827.40 or 3827.90; or
| A change to mixtures of halogenated hydrocarbons of subheading 3827.90 from any other subheading, provided that no more than 60 percent by weight of the good classified in this subheading is attributable to one substance or compound, except from other chemical products or preparations of the chemical or allied industries (including those consisting of mixtures of natural products), not elsewhere specified or included of subheading 2852.90, 3827.11 through 3827.14, 3827.31 through 3827.69 or 3826.00, and except from subheading 3824.84 through 3824.90; or
| A change to other mixtures containing perhalogenated derivatives of acyclic hydrocarbons containing two or more different halogens of subheading 3827.90 from any other subheading, provided that no more than 60 percent by weight of the good classified in this subheading is attributable to one substance or compound, except from other mixtures containing perhalogenated derivatives of acyclic hydrocarbons containing two or more different halogens of subheading 3827.12 through 3827.69;
| A change to naphthenic acids, their water-insoluble salts or their esters of subheading 3824.99 from any other good of subheading 3824.84 through 3824.99 or from any other subheading; or
| A change to any other good of subheading 3824.84 through 3824.99 from naphthenic acids, their water-insoluble salts or their esters of subheading 3824.99 or from any other subheading, provided that no more than 60 percent by weight of the good classified in this subheading is attributable to one substance or compound, except from other chemical products or preparations of the chemical or allied industries (including those consisting of mixtures of natural products), not elsewhere specified or included, of subheading 3827.11 through 3827.14, or 3827.31 through 3824.90; or
| A change to any other good of subheading 3824.81 through 3824.99 from any other subheading, including another subheading within that group, provided that no more than 60 percent by weight of the good classified in this subheading is attributable to one substance or compound; or
| A change to any other good of subheading 3827.11 through 3827.90 from any other subheading, including another subheading within that group, provided that no more than 60 percent by weight of the good classified in this subheading is attributable to one substance or compound.
* * * * * * *
(g) | Section VII: Chapter 39 through 40
* * * * * * *
3901-3915 | A change to heading 3901 through 3915 from any other heading, including another heading within that group, except a change to 3907 from other polyethers of subheading 3002.12 through 3002.15, subheading 3822.11 through 3822.12 or subheading 3822.19, provided that the domestic polymer content is no less than 40 percent by weight of the total polymer content.
* * * * * * *
(h) | Section VIII: Chapters 41 through 43
* * * * * * *
Chapter 42 Note: The country of origin of goods classified in subheadings 4202.12.40 through 4202.12.89, 4202.22.40 through 4202.22.80, 4202.32.40 through 4202.32.99, 4202.92.05, 4202.92.15 through 4202.92.30, and 4202.92.60 through 4202.92.97 shall be determined under the provisions of § 102.21.
4201 | A change to heading 4201 from any other heading.
* * * * * * *
(i) | Section IX: Chapters 44 through 46
* * * * * * *
4412 | A change to heading 4412 from any other heading, except from plywood of subheading 4418.73 through 4418.79; or
| A change to surface-covered plywood of heading 4412 from any other plywood that is not surface covered or is surface-covered only with a clear or transparent material which does not obscure the grain, texture, or markings of the face ply.
4441-4421 | A change to plywood of subheading 4418.73 through 4418.79 from any other good of heading 4418 or from any other heading, except from heading 4412; or
| A change to any other good of subheading 4418.73 through 4418.79 from plywood of subheading 4418.73 through 4418.79 or from any other heading; or
| A change to any other good of heading 4413 through 4421 from any other heading, including another heading within that group.
* * * * * * *
(k) | Section XII: Chapters 64 through 67
Chapter 64 Note: For purposes of this chapter, the term “formed uppers” means uppers, with closed bottoms, which have been shaped by lasting, molding, or otherwise but not by simply closing at the bottom. The country of origin of goods classified in subheadings 6405.20.60, 6406.10.77, 6406.10.90, and 6406.90.15 will be determined under the provisions of § 102.21.
* * * * * * *
Chapter 65 Note: The country of origin of goods classified in subheading 6505.00, other than hairnets, will be determined under the provisions of § 102.21.
* * * * * * *
(l) | Section XIII: Chapters 68 through 70
* * * * * * *
6812.80 | A change to clothing, clothing accessories, footwear or headgear of subheading 6812.80 or from any other good of subheading 6812.80 or from any other subheading, except from subheading 6812.91; or
| A change to paper, millboard or felt of subheading 6812.80 from any other subheading or from any other good of subheading 6812.80, except from compressed asbestos fiber jointing of subheading 6812.80 or from subheading 6812.99; or
| A change to compressed asbestos fiber jointing, in sheets or rolls, of subheading 6812.80 from any other subheading or from any other good of subheading 6812.80, except from paper, millboard or felt of subheading 6812.80 or from subheading 6812.99; or
| A change to other fabricated asbestos fibers, mixtures with a basis of asbestos and magnesium carbonate, or to articles of such mixtures or of asbestos, whether or not reinforced, other than goods of heading 6811 or 6813 from any other heading; or
| A change to yarn or thread of subheading 6812.80 from any other subheading including from any other good of subheading 6812.80; or
| A change to cords or string, whether or not plaited, of subheading 6812.80 from any other subheading or from any other good of subheading 6812.80, except from yarn or thread of subheading 6812.80; or
| A change to woven or knitted fabric of subheading 6812.80 from any other subheading including from any other good of subheading 6812.80.
* * * * * * *
6812.99 | A change to yarn or thread of subheading 6812.99 from any other subheading including from any other good of subheading 6812.99; or
| A change to cords or string, whether or not plaited of subheading 6812.99 from any other subheading or from any other good of subheading 6812.99, except from yarn or thread of subheading 6812.99; or
| A change to woven or knitted fabric of subheading 6812.99 from any other subheading including from any other good of subheading 6812.99; or
| A change to paper, millboard, felt, or compressed asbestos fiber jointing, in sheets or rolls, of subheading 6812.99 from any other heading or from any subheading, except from subheading 6812.80 and 6812.99.
* * * * * * *
6815.11-6815.19 | A change to subheading 6815.11 through 6815.19 from any other subheading outside that group.
6815.20-6815.99 | A change to subheading 6815.20 through 6815.99 from any other subheading.
* * * * * * *
Chapter 70 Note: The country of origin of goods classified in subheadings 7019.13.15 and 7019.13.28 shall be determined under the provisions of § 102.21.
7019.11-7019.13 | A change to subheading 7019.11 through 7019.13 from any other heading.
7019.14-7019.19 | A change to subheading 7019.14 through 7019.19 from any other subheading outside that group, except subheading 7019.71.
7019.61 | A change to subheading 7019.61 from any other subheading, except subheading 7019.72 through 7019.73.
7019.62 | A change to subheading 7019.62 from any other subheading, except subheading 7019.69 or subheading 7019.72 through 7019.90.
7019.63-7019.66 | A change to subheading 7019.63 through 7019.66 from any other subheading outside that group, except subheading 7019.61, 7019.62, 7019.69, 7019.72 through 7019.73, 7019.80, and 7019.90.
7019.69 | A change to subheading 7019.69 from any other subheading, except subheading 7019.62 or subheading 7019.72 through 7019.90.
7019.71 | A change to subheading 7019.71 from any other subheading, except subheading 7019.14 through 7019.19.
7019.72-7019.73 | A change to subheading 7019.72 through 7019.73 from any other subheading outside that group, except subheading 7019.61 through 7019.69, subheading 7019.80 and subheading 7019.90.
7019.80 | A change to glass wool and articles of glass wool of subheading 7019.80 from any other heading; or
| A change to subheading 7019.80 from any other subheading, except subheading 7019.61, 7019.62, 7019.63, 7019.64, 7019.65, 7019.66, 7019.69, 7019.72, 7019.73, and 7019.90.
7019.90 | A change to subheading 7019.90 from any other heading; or
| A change to subheading 7019.90 from any other subheading, except from glass wool and articles of glass wool of subheading 7019.80 or subheading 7019.61, 7019.62, 7019.63, 7019.64, 7019.65, 7019.66, 7019.69, 7019.72, and 7019.73.
* * * * * * *
(n) | Section XV: Chapters 72 through 83
* * * * * * *
7419.20-7419.80 | A change to cloth, grill or netting of copper wire or to expanded metal of copper of subheading 7419.80 from any other good of subheading 7419.80 or from any other subheading; or
| A change to any other good of subheading 7419.80 from cloth, grill or netting of copper wire or expanded metal of copper of subheading 7419.80; or
| A change to copper springs of subheading 7419.80 from any other good of subheading 7419.80 or from any other subheading; or
| A change to any other good of subheading 7419.80 from copper springs of subheading 7419.80; or
| A change to any other good of subheading 7419.20 through 7419.80 from any other subheading, including another subheading within that group.
* * * * * * *
8103.20-8113.00 | A change to germanium of subheading 8112.92 through 8112.99 from any other good of subheading 8112.31 through 8112.49, 8112.92 through 8112.99 or from any other subheading; or
| A change to vanadium of subheading 8112.92 through 8112.99 from any other good of subheading 8112.31 through 8112.49, 8112.92 through 8112.99 or from any other subheading; or
| A change to any other good of subheading 8112.92 through 8112.99 from germanium or vanadium of subheading 8112.92 through 8112.99 or from any other subheading; or
| A change to any other good of subheading 8112.31 through 8112.49 from germanium or vanadium of subheading 8112.92 through 8112.99 or from any other subheading; or
| A change to any of the following goods classified in subheading 8103.20 through 8113.00, including from materials also classified in subheading 8103.20 through 8113.00: Matte; unwrought; powder except from flakes; flakes except from powder; bars except from rods or profiles; rods except from bars or profiles; profiles except from rods or bars; wire except from rod; plates except from sheets or strip; sheets except from plate or strip; strip except from sheets or plate; foil except from sheet or strip; tubes except from pipes; pipes except from tubes; tube or pipe fittings except from tubes or pipes; cables/stranded wire/plaited bands; or
| A change to any other good of subheading 8103.20 through 8113.00 from any other subheading, including another subheading within that group.
* * * * * * *
(o) | Section XVI: Chapters 84 through 85
* * * * * * *
8456.11-8456.90 | A change to subheading 8456.11 through 8456.90 from any other heading, other than a change to water-jet cutting machines of subheading 8456.50, except from machine-tools for dry-etching patterns on semiconductor materials of subheading 8486.20; or
| A change to water-jet cutting machines of subheading 8456.50 from any other good of subheading 8456.40 or from any other subheading, except from subheading 8479.89 or from subheading 8486.10 through 8486.40.
* * * * * * *
8471.60-8472.90 | A change to addressing machines or address plate embossing machines of subheading 8472.90 from any other good of subheading 8472.90, provided that the change is not the result of simple assembly; or
| A change to any other good of subheading 8472.90 from addressing machines and address plate embossing machines of subheading 8472.90, provided that the change is not the result of simple assembly; or
| A change to subheading 8471.60 through 8472.90 from any other subheading outside that group, except from subheading 8504.40 or from heading 8473; or
| A change to subheading 8471.60 through 8472.90 from any other subheading within that group or from subheading 8504.90 or from heading 8473, provided that the change is not the result of simple assembly; or
| A change to word-processing machines of subheading 8472.90 from any other good of heading 8472 or from any other subheading, except from automatic typewriters of heading 8472; or
| A change to automatic typewriters of subheading 8472.90 from any other good of heading 8472 or from any other subheading, except from word-processing machines of heading 8472; or
| A change to other electric typewriters of subheading 8472.90 from any other good of heading 8472 or from any other subheading, except from other non-electric typewriters of heading 8472; or
| A change to other non-electric typewriters of subheading 8472.90 from any other good of heading 8472 or from any other subheading, except from other electric typewriters of heading 8472.
* * * * * * *
8479.10-8479.89 | A change to subheading 8479.10 through 8479.89, other than a change to passenger boarding bridges of subheading 8479.71 or 8479.79, from any other subheading, including another subheading within that group, except from subheading 8486.10 through 8486.40 and except for a change to 8479.89 from water-jet cutting machines of 8456.50; or
| A change to passenger boarding bridges of subheading 8479.71 or 8479.79 from any other subheading.
* * * * * * *
8485.10-8485.90 | A change to subheading 8485.10 from any other subheading except from subheading 8486.10 through 8486.40 and from water-jet cutting machines of subheading 8456.90;
| A change to subheading 8485.20 from any other subheading;
| A change to subheading 8485.30 from any other subheading except from subheading 8475.21 through 8475.29, from 8486.10 through 8486.40, from water-jet cutting machines of subheading 8456.90, and from heading 8501, where such change from heading 8501 is the result of simple assembly;
| A change to subheading 8485.80 from any other subheading except from subheading 8486.10 through 8486.40 and from water-jet cutting machines of subheading 8456.90; and
| A change to subheading 8485.90 from any other subheading, except from parts of water-jet cutting machines of heading 8466 and except from heading 8501 when resulting from a simple assembly.
8486.10-8486.40 | A change to other machine-tools for working any material by removal of material, by electro-chemical, electron beam, ionic-beam or plasma arc process of subheading 8486.10 from any other good of subheading 8486.10 or from any other subheading, except from other machine-tools for working any material by removal of material, by electro-chemical, electron beam, ionic-beam or plasma arc process of subheading 8486.40, or from subheading 8456.50 to 8456.90; or
| A change to sawing machines of subheading 8486.10 from any other good of subheading 8486.10 or from any other subheading, except from subheading 8464.10; or
| A change to steam or sand blasting machines and similar jet projecting machines of subheading 8486.20 from any other good of subheading 8486.20 or from any other subheading, except from steam or sand blasting machines and similar jet projecting machines of subheading 8424.30 or 8486.40; or
| A change to ion implanters designed for doping semiconductor materials of subheading 8486.20 from any other good of subheading 8486.20 or from any other subheading, except from ion implanters designed for doping semiconductor materials of subheading 8543.10; or
| A change to other machine-tools for dry-etching patterns on semiconductor materials of subheading 8486.20 from any other good of subheading 8486.20 or from any other subheading, except from heading 8456; or
| A change to direct write-on-wafer apparatus of subheading 8486.20 from any other good of subheading 8486.20 or from any other subheading, except from step or repeat aligners or other apparatus for the projection or drawing of circuit patterns on sensitized semiconductor materials of subheading 8486.20 or from subheading 9010.50; or
| A change to step aligners of subheading 8486.20 from any other good of subheading 8486.20 or from any other subheading, except from direct write-on-wafer apparatus, repeat aligners, or other apparatus for the projection or drawing of circuit patterns on sensitized semiconductor materials of subheading 8486.20 or from subheading 9010.50; or
| A change to repeat aligners of subheading 8486.20 from any other good of subheading 8486.20 or from any other subheading, except from direct write-on-wafer apparatus, step aligners, or other apparatus for the projection or drawing of circuit patterns on sensitized semiconductor materials of subheading 8486.20 or from subheading 9010.50; or
| A change to other apparatus for the projection or drawing of circuit patterns on sensitized semiconductor materials of subheading 8486.20 from any other good of subheading 8486.20 or from any other subheading, except from direct write-on-wafer apparatus, step or repeat aligners of subheading 8486.20 or from subheading 9010.50; or
| A change to centrifuges of subheading 8486.10 through 8486.20 from any other good of subheading 8486.10 through 8486.20 or from any other subheading, except from subheading 8421.19; or
| A change to machine-tools operated by laser or other light or photon beam process of subheading 8486.10 through 8486.20 from any other good of subheading 8486.10 through 8486.20 or from any other subheading, except from subheading 8456.11 to 8456.12; or
| A change to grinding or polishing machines of subheading 8486.10 through 8486.20 from any other good of subheading 8486.10 through 8486.20 or from any other subheading, except from subheading 8464.20; or
| A change to other electrical machines or apparatus, having individual functions, of subheading 8486.10 through 8486.20 from any other good of subheading 8486.10 through 8486.20 or from any other subheading, except from other electrical machines or apparatus of subheading 8486.10 through 8486.20, 8486.90, 8543.70, 8542.31 through 8542.39, and except from proximity cards or tags of subheading 8523.52; or
| A change to other furnaces or ovens of subheading 8486.10 through 8486.20 from any other good of subheading 8486.10 through 8486.20 or from any other subheading, except from subheading 8514.30; or
| A change to other machine-tools for working stone, ceramics or like mineral materials or for cold working glass of subheading 8486.10 through 8486.30 from any other good of subheading 8486.10 through 8486.30 or from any other subheading, except from other machine-tools for working stone, ceramics or like mineral materials or for cold working glass of subheading 8486.10 through 8486.30, or from subheading 8464.90; or
| A change to other mechanical appliances for projecting, dispersing or spraying liquids or powders of subheading 8486.10 through 8486.30 from any other good of subheading 8486.10 through 8486.30 or from any other subheading, except from subheading 8424.89; or
| A change to steam or sand blasting machines or similar jet projecting machines of subheading 8486.40 from any other good of subheading 8486.40 or from any other subheading, except from steam or sand blasting machines and similar jet projecting machines of subheading 8424.30 or 8486.20; or
| A change to pneumatic elevators or conveyors of subheading 8486.40 from any other good of subheading 8486.40 or from any other subheading, except from subheading 8428.20; or
| A change to other belt type continuous-action elevators or conveyors for goods or materials of subheading 8486.40 from any other good of subheading 8486.40 or from any other subheading, except from subheading 8428.33; or
| A change to other continuous-action elevators or conveyors for goods or materials of subheading 8486.40 from any other good of subheading 8486.40 or from any other subheading, except from subheading 8428.39; or
| A change to other lifting, handling, loading or unloading machinery of subheading 8486.40 from any other good of subheading 8486.40 or from any other subheading, except from subheading 8428.90; or
| A change to other machine-tools for working any material by removal of material, by electro-chemical, electron beam, ionic-beam or plasma arc process of subheading 8486.40 from any other good of subheading 8486.40 or from any other subheading, except from other machine-tools for working any material by removal of material, by electro-chemical, electron beam, ionic-beam or plasma arc process of subheading 8486.10, or from subheading 8456.40, 8456.50 or 8456.90; or
| A change to numerically controlled bending, folding, straightening or flattening machines of subheading 8486.40 from any other good of subheading 8486.40 or from any other subheading, except from subheading 8462.21; or
| A change to other bending, folding, straightening or flattening machines of subheading 8486.40 from any other good of subheading 8486.40 or from any other subheading, except from subheading 8462.29; or
| A change to other machines for working hard materials of subheading 8486.40 from any other good of subheading 8486.40 or from any other subheading, except from subheading 8465.99; or
| A change to injection-molding machines of subheading 8486.40 from any other good of subheading 8486.40 or from any other subheading except from subheading 8477.10; or
| A change to vacuum molding machines or other thermoforming machines of subheading 8486.40 from any other good of subheading 8486.40 or from any other subheading, except from subheading 8477.40; or
| A change to other machinery for molding or otherwise forming of subheading 8486.40 from any other good of subheading 8486.40 or from any other subheading, except from subheading 8477.59; or
| A change to parts of welding machines or of electric machines and apparatus for hot spraying of metals or cermets of subheading 8486.40 from any other good of subheading 8486.40 or from any other subheading, except from subheading 8515.90; or
| A change to pattern generating apparatus designed to produce masks or reticles from photoresist coated substrates of subheading 8486.40 from any other good of subheading 8486.40 or from any other subheading, except from subheading 9017.20; or
| A change to die attach apparatus, tape automated bonders or wire bonders for assembly of semiconductors of subheading 8486.40 from any other good of subheading 8486.40 or from any other subheading, except from subheading 8515.11 through 8515.80; or
| A change to deflash machines for cleaning and removing contaminants from the metal leads of semiconductor packages prior to the electroplating process (deflash by chemical bath) of subheading 8486.40 from any other good of subheading 8486.40 or from any other subheading, except from subheading 8465.99; or
| A change to other machines or mechanical appliances of subheading 8486.10 through 8486.40 from any other good of subheading 8486.10 through 8486.40 or from any other subheading, except from other machines or mechanical appliances of subheading 8486.10 through 8486.40, 8479.89, 8508.11 through 8508.19 or 8508.60.
* * * * * * *
8486.90 | A change to parts or accessories of drawing, marking-out or mathematical calculating instruments or to instruments for measuring length, for use in the hand, of subheading 8486.90 from any other good of subheading 8486.90 or from any other subheading, except from heading 9017; or
| A change to parts or accessories of apparatus for the projection or drawing of circuit patterns on sensitized semiconductor materials or of other apparatus or equipment for photographic laboratories or negatoscopes of subheading 8486.90 from any other good of subheading 8486.90 or from any other subheading, except from heading 9010; or
| A change to parts of electrical machines or apparatus, having individual functions, of subheading 8486.90 from any other good of subheading 8486.90 or from any other subheading, except from heading 8543; or
| A change to parts of machinery for working rubber or plastics or for the manufacture of products from these materials of subheading 8486.90 from any other good of subheading 8486.90 or from any other subheading, except from other parts of machinery for working rubber or plastics or for the manufacture of products from these materials of subheading 8486.90, or from subheading 8477.90, and except from heading 8501 when resulting from a simple assembly; or
| A change to tool holders or to self-opening dieheads of subheading 8486.90 from any other good of subheading 8486.90 or from any other subheading, except from subheading 8466.10 through 8466.94, work holders, dividing heads or other special attachments of subheading 8486.90, and except from heading 8501 when resulting from simple assembly; or
| A change to work holders of subheading 8486.90 from any other good of subheading 8486.90, except from tool holders, dividing heads or other special attachments of subheading 8486.90, or from any other subheading, except from subheading 8466.10 through 8466.94, and except from heading 8501 when resulting from simple assembly; or
| A change to dividing heads or to other special attachments for machine-tools of subheading 8486.90 from any other good of subheading 8486.90, except from tool holders or work holders of subheading 8486.90, or from any other subheading, except from subheading 8466.10 through 8466.94, and except from heading 8501 when resulting from simple assembly; or
| A change to parts or accessories for machine-tools for working stone, ceramics, concrete, asbestos-cement or like minerals or for cold working glass of subheading 8486.90 from any other good of subheading 8486.90, except from parts or accessories of:
| • Machine-tools for working any material by the removal of material, by laser or other light or photon beam, ultrasonic, electro-discharge, electro-chemical, electron beam, ionic-beam or plasma arc processes, or
| • Machine-tools for drilling, boring, milling, threading or tapping by removing metal, or for deburring, sharpening, grinding, honing, lapping, polishing or otherwise finishing metal or cermets by means of grinding stones, abrasives or polishing products, or
| • Machine-tools for planing, shaping, slotting, broaching, gear cutting, gear grinding or gear finishing, sawing, cutting-off, or for working by removing metal or cermets, or
| • Machine-tools for working metal by bending, folding, straightening, flattening sheathing, punching or notching (including presses), or
| • Machine-tools for working metal or cermets, without removing material, or
| • Machine-tools for working wood, cork, bone, hard rubber, hard plastics or similar hard materials (including machines for nailing, stapling, gluing or otherwise assembling), or
| • Machine-tools for working metal by forging, hammering or die forging (including presses), or
| • Machining centers, unit construction machines (single station) or multi-station transfer machines for working metal, or
| • Lathes (including turning centers), for removing metal, or
| • Presses for metal or working metal carbides, of subheading 8486.90, or a change from any other subheading, except from subheading 8466.10 through 8466.94, and except from heading 8501 when resulting from simple assembly; or
| A change to parts or accessories of machine-tools (including machines for nailing, stapling, gluing or otherwise assembling) for working wood, cork, bone, hard rubber, hard plastics or similar hard materials of subheading 8486.90 from any other good of subheading 8486.90, except from parts or accessories of:
| • Machine-tools for working any material by the removal of material, by laser or other light or photon beam, ultrasonic, electro-discharge, electro-chemical, electron beam, ionic-beam or plasma arc processes, or
| • Machine-tools for drilling, boring, milling, threading or tapping by removing metal, or
| • Machine-tools for deburring, sharpening, grinding, honing, lapping, polishing or otherwise finishing metal or cermets by means of grinding stones, abrasives or polishing products, or
| • Machine-tools for planing, shaping, slotting, broaching, gear cutting, gear grinding or gear finishing, sawing, cutting-off, or for working by removing metal or cermets, or
| • Machine-tools for working metal by forging, hammering or die forging (including presses), or
| • Machine-tools for working metal by bending, folding, straightening, flattening sheathing, punching or notching (including presses), or
| • Machine-tools for working metal or cermets, without removing material, or
| • Machine-tools for working stone, ceramics, concrete, asbestos-cement or like minerals or for cold working glass, or
| • Machining centers, unit construction machines (single station) or multi-station transfer machines for working metal, or
| • Lathes (including turning centers), for removing metal, or of presses for working metal or metal carbides, of subheading 8486.90, or a change from any other subheading, except from subheading 8466.10 through 8466.94, and except from heading 8501 when resulting from simple assembly; or
| A change to parts or accessories of machine-tools for working any material by the removal of material, by laser or other light or photon beam, ultrasonic, electro-discharge, electro-chemical, electron beam, ionic-beam or plasma arc processes, or for drilling, boring, milling, threading or tapping by removing metal, or for deburring, sharpening, grinding, honing, lapping, polishing or otherwise finishing metal or cermets by means of grinding stones, abrasives or polishing products, or for planing, shaping, slotting, broaching, gear cutting, gear grinding or gear finishing, sawing, cutting-off, or for working by removing metal or cermets, or to parts and accessories of machining centers, unit construction machines (single station) or multi-station transfer machines for working metal, or of lathes (including turning centers), for removing metal, of subheading 8486.90 from any other good of subheading 8486.90 except from parts or accessories of:
| • Machine-tools for working metal by forging, hammering or die forging, or
| • Machine-tools for working metal by bending, folding, straightening, flattening sheathing, punching or notching (including presses), or
| • Machine-tools for working metal or cermets, without removing material, or
| • Machine-tools for working stone, ceramics, concrete, asbestos-cement or like minerals or for cold working glass, or for working wood, cork, bone, hard rubber, hard plastics or similar hard materials (including machines for nailing, stapling, gluing or otherwise assembling), or
| • Presses for working metal or metal carbides, of subheading 8486.90, or a change from any other subheading, except from subheading 8466.10 through 8466.94, and except from heading 8501 when resulting from simple assembly; or
| A change to parts or accessories of machine-tools (including presses) for working metal by forging, hammering or die forging, or for working metal by bending, folding, straightening, flattening, sheathing, punching or notching (including presses), or for working metal or cermets, without removing material or to parts or accessories of presses for working metal carbide of subheading 8486.90 from any other good of subheading 8486.90, except from parts or accessories of:
| • Machine-tools for working any material by the removal of material, by laser or other light or photon beam, ultrasonic, electro-discharge, electro-chemical, electron beam, ionic-beam or plasma arc processes, or
| • Machine-tools for drilling, boring, milling, threading or tapping by removing metal, or
| • Machine-tools for deburring, sharpening, grinding, honing, lapping, polishing or otherwise finishing metal or cermets by means of grinding stones, abrasives or polishing products, or
| • Machine-tools for planing, shaping, slotting, broaching, gear cutting, gear grinding or gear finishing, sawing, cutting-off, or
| • Machine-tools for working by removing metal or cermets, or
| • Machine-tools for working stone, ceramics, concrete, asbestos-cement or like minerals or for cold working glass, or
| • Machine-tools for working wood, cork, bone, hard rubber, hard plastics or similar hard materials (including machines for nailing, stapling, gluing or otherwise assembling), or
| • Machining centers, unit construction machines (single station) or multi-station transfer machines for working metal, or
| • Lathes (including turning centers), for removing metal, of subheading 8486.90, or a change from any other subheading, except from subheading 8466.10 through 8466.94, and except from heading 8501 when resulting from simple assembly; or
| A change to parts suitable for use solely or principally with lifting, handling, loading or unloading machinery from any other good of subheading 8486.90 or from any other subheading, except from subheading 8431.39 and except from heading 8501 when resulting from simple assembly.
* * * * * * *
8517.11-8517.69 | A change to subheading 8517.13 through 8517.14 from any other subheading, except from other transceivers, other transmission apparatus or other transmission apparatus incorporating reception apparatus for radiotelephony or radiotelegraphy of subheading 8517.61 through 8517.69, or 8525.50 through 8525.60; or
| A change to other transmission apparatus for radiotelephony or radiotelegraphy or to other transmission apparatus incorporating reception apparatus for radiotelephony or radiotelegraphy of subheading 8517.61 through 8517.69 from any other good of subheading 8517.61 through 8517.69 or from any other subheading, except from subheading 8517.13 through 8517.14, or 8525.50 through 8525.60; or
| A change to other units of automatic data processing machines of subheading 8517.62 through 8517.69 from any other good of subheading 8517.62 through 8517.69 or from any other subheading, except from subheading 8504.90 or from heading 8473 or subheading 8517.71 or 8517.79 when the change is the result of simple assembly; or
| A change to reception apparatus for radiotelephony or radiotelegraphy of subheading 8517.69 from any other good of subheading 8517.69 or from any other subheading, except from subheading 8527.99, or
| A change to any other good of subheading 8517.11 through 8517.69 from any other subheading outside that group, except from facsimile machines or teleprinters of subheading 8443.31 through 8443.32, and except from subheading 8443.99 or 8517.71 through 8517.79 when that change is the result of simple assembly.
8517.71-8517.79 | A change to parts or accessories of the machines of heading 8471 not incorporating a cathode ray tube from any other good of heading subheading 8517.71 or 8517.79 or from any other subheading, except from heading 8414, 8501, 8504, 8534, 8541, or 8542 when resulting from a simple assembly, and except from heading 8473 or subheading 8443.99; or
| A change to antennas or antenna reflectors of a kind suitable for use with apparatus for radiotelephony or radiotelegraphy or to other parts suitable for use solely or principally with apparatus for radiotelephony or radiotelegraphy from any other good of subheading 8517.71 and 8517.79 or from any other subheading, except from heading 8529; or
| A change to any other good of subheading 8517.71 through 8517.79 from parts or accessories of the machines of heading 8471 not incorporating a cathode ray tube, or from antennas or antenna reflectors of a kind suitable for use with apparatus for radiotelephony or radiotelegraphy, or from other parts suitable for use solely or principally with the apparatus for radiotelephony or radiotelegraphy of subheading 8517.71 through 8517.79, or from any other heading.
* * * * * * *
8524.11-8524.99 | A change to subheading 8524.11 from any other subheading;
| A change to subheading 8524.12 through 8524.19 from any other heading;
| A change to subheading 8524.91 from any other subheading;
| A change from subheading 8524.92 through 8524.99 from any other heading.
* * * * * * *
8525.81-8525.89 | A change to subheading 8525.81 through 8525.89 from any other subheading or from any other good of subheading 8525.81 through 8525.89, except a change to video camera recorders from television cameras.
* * * * * * *
8528.42 | A change to display units from any other subheading, except from subheading 8471.60 or 8504.40, or from heading 8473 when the change is the result of a simple assembly.
* * * * * * *
8528.52 | A change to display units from any other subheading, except from subheading 8471.60 or 8504.40, or from heading 8473 when the change is the result of a simple assembly.
* * * * * * *
8528.62 | A change to display units from any other subheading, except from subheading 8471.60 or 8504.40, or from heading 8473 when the change is the result of a simple assembly.
* * * * * * *
8539.41-8539.52 | A change to subheading 8539.41 through 8539.52 from any other subheading outside that group.
* * * * * * *
8543.20-8543.40 | A change to subheading 8543.20 through 8543.40 from any other subheading, including another subheading within that group.
8543.70 | A change to subheading 8543.70 from any other subheading, except from LED modules of subheading 8539.51 and LED lamps of subheading 8539.52, except from proximity cards or tags of subheading 8523.52 and except from other machines or apparatus of subheading 8486.10 through 8486.20.
* * * * * * *
8548 | A change to heading 8548 from any other heading, except from heading 8549.
8549 | A change to heading 8549 from any other heading, except from heading 8548.
* * * * * * *
(p) | Section XVII: Chapters 86 through 89
* * * * * * *
8708.22 | A change to subheading 8708.22 from any other heading.
* * * * * * *
8708.40 | A change to parts for power trains of subheading 8708.40 from any other good of subheading 8708.40 or from any other subheading, except from parts or accessories of the goods of subheading 8708.50, 8708.80 through 8708.92, or 8708.94 through 8708.99; or
| A change to any other good of subheading 8708.40 from parts for power trains of subheading 8708.40, except when the change is pursuant to General Rule of Interpretation 2(a), or from any other subheading, except from parts or accessories of the goods of subheading 8708.50, 8708.80 through 8708.92, or 8708.94 through 8708.99, when the change is pursuant to General Rule of Interpretation 2(a).
* * * * * * *
8801-8806 | A change to heading 8801 through 8806 from any other heading outside that group, except from heading 8807 when that change is pursuant to General Rule of Interpretation 2(a).
8807.10-8807.90 | A change to subheading 8807.10 through 8807.90 from any other subheading, including another subheading within that group.
* * * * * * *
(q) | Section XVIII: Chapters through 92
* * * * * * *
9006.30-9006.69 | A change to cameras of a kind used for recording documents on microfilm, microfiche or other microforms of subheading 9006.53 through 9006.59 from any other good of subheading 9006.53 through 9006.59 or from any other subheading; or
| A change to any other good of subheading 9006.53 through 9006.59 from cameras of a kind used for recording documents on microfilm, microfiche or other microforms of subheading 9006.53 through 9006.59 or from any other subheading; or
| A change to flashbulbs, flashcubes or the like of subheading 9006.69 from any other good of subheading 9006.69 or from any other subheading; or
| A change to any other good of subheading 9006.30 through 9006.69 from any other subheading, including another subheading within that group.
* * * * * * *
(s) | Section XX: Chapters 94 through 96
* * * * * * *
9401.10-9401.80 | A change to subheading 9401.52 through 9401.59 from any subheading outside that group, except from subheading 9401.10 through 9401.80, subheading 9403.10 through 9403.89, and except from subheading 9401.91 through 9401.99 or 9403.91 through 9403.99 when that change is pursuant to General Rule of Interpretation 2(a); or
| A change to subheading 9401.10 through 9401.80 from any other subheading outside that group, except from subheading 9403.10 through 9403.89, and except from subheading 9401.91 through 9401.99 or 9403.91 through 9403.99, when that change is pursuant to General Rule of Interpretation 2(a).
9401.91-9401.99 | A change to subheading 9401.91 through 9401.99 from any other heading, except from subheading 9403.91 through 9403.99.
9402 | A change to heading 9402 from any other heading, except from heading 9401.10 through 9401.80 or subheading 9403.10 through 9403.89, and except from subheading 9401.91 through 9401.99 or 9403.91 through 9403.99, when that change is pursuant to General Rule of Interpretation 2(a).
9403.10-9403.89 | A change to subheading 9403.10 through 9403.89 from any other subheading outside that group, except from subheading 9401.10 through 9403.89, and except from subheading 9401.91 through 9401.99 or 9403.91 through 9403.99, when that change is pursuant to General Rule of Interpretation 2(a).
9403.91-9403.99 | A change to subheading 9403.91 through 9403.99 from any other heading, except from subheading 9401.91 through 9401.99.
* * * * * * *
9405.11-9405.69 | A change to subheading 9405.11 through 9405.69 from any other subheading outside that group, except from subheading 9405.91 through 9405.99 when that change is pursuant to General Rule of Interpretation 2(a).
* * * * * * *
9503 | A change to wheeled toys designed to be ridden by children or to dolls' carriages or dolls' strollers, parts or accessories thereof from any other chapter, except from heading 8714 when that change is pursuant to General Rule of Interpretation 2(a); or
| A change to dolls, whether or not dressed, from any other subheading or from any other good of heading 9503, except from skins for stuffed dolls of heading 9503; or
| A change to parts or accessories of dolls representing only human beings from any other heading or from any other good of heading 9503, except from toys representing animals or non-human creatures of heading 9503; or
| A change to electric trains, including tracks, signals and other accessories or parts thereof from any other good of heading 9503 or from any other subheading; or
| A change to reduced-size (“scale”) model assembly kits, (excluding electric trains) or to parts or accessories thereof, from any other good of heading 9503 or from any other subheading; or
| A change to other construction sets and constructional toys or to parts or accessories thereof from any other good of heading 9503 or from any other subheading; or
| A change to toys representing animals or non-human creatures or to parts or accessories thereof from wheeled toys designed to be ridden by children, dolls' carriages, or dolls representing only human beings of heading 9503 or from any other heading; or
| A change to toys representing animals or non-human creatures from parts or accessories of toys representing animals or non-human creatures of heading 9503; or
| A change to parts or accessories of toys representing animals or non-human creatures from wheeled toys designed to be ridden by children, dolls' carriages, or dolls' strollers of heading 9503 or from any other heading, except from heading 6111 or 6209; or
| A change to toy musical instruments and apparatus from any other good of heading 9503 or from any other subheading; or
| A change to puzzles from any other good of heading 9503 or from any other subheading; or
| A change to other toys, put up in sets or outfits, or to other toys and models, incorporating a motor, or to other toys from any other chapter.
* * * * * * *
Chapter 96 Note: The country of origin of goods classified in subheading 9612.10.9010 will be determined under the provisions of § 102.21. The country of origin of goods classified in subheadings 9619.00.21 through 9619.00.79, HTSUS, will be determined under the provisions of § 102.21.
* * * * * * *
9620.00 | A change to subheading 9620.00 from any other heading or subheading, except from heading 9001 or 9002 and except from heading 8414, 8501, 8504, 8534, 8541, or 8542 when resulting from a simple assembly.
* * * * * * *
(t) | Section XXI: Chapter 97.
9701.21-9701.99 | A change to subheading 9701.21 through 9701.99 from any other subheading, including another subheading within that group.
* * * * * * *

3. In § 102.21:

a. Paragraph (b)(5) is amended by revising the list of tariff numbers;

b. Paragraph (c)(3)(ii) is revised;

c. Add a heading to the table following paragraph (e)(1);

d. Newly designated table 1 to paragraph (e)(1) is amended by:

i. Removing the entries for: “4202.12.40-4204.12.80”, “4202.22.40-4202.22.80”, “4202.32.40-4202.32.95”, “4202.92.15-4202.92.30”, “4202.92.60-4202.92.90”, “6201-6208”, “6201-6208”, “6209.20.5040”, “6210-6212”, “7019.19.15”, “7019.19.28”, and “7019.40-7019.59”; and

ii. Adding in numerical order entries for: “4202.12.40-4202.12.89”, “4202.22.40-4202.22.89”, “4202.32.40-4202.32.99”, “4202.92.15-4202.92.33”, and “4202.92.60-4202.92.97”;

iii. Revising the entry for “6201-6208”; and

iv. Adding in numerical order entries for “6210-6211”, “6212”, “6501”, “7019.13.15”, “7019.13.28”, “7019.61-7019.90”, and “9619.00.31-9619.00.33”; and

e. Paragraph (e)(2) introductory text is revised.

The revisions and additions read as follows:

§ 102.21 Textile and apparel products.

* * * * *

(b) * * *

(5) * * *

3005.90

3921.12.15

3921.13.15

3921.90.2550

4202.12.40-89

4202.22.40-89

4202.32.40-99

4202.92.04-08

4202.92.15-33

4202.92.60-97

6405.20.60

6406.10.77

6406.10.90

6406.90.15

6501

6502

6504

6505.00 (except for hair-nets of subheading 6505.00)

6601.10-99

7019.13.15

7019.13.28

7019.61-90

8708.21

8804

9113.90.40

9404.90

9612.10.9010

9619.00.21-79

* * * * *

(c) * * *

(3) * * *

(ii) Except for fabrics of chapter 59 and goods of headings 5609, 5807, 5811, 6213, 6214, 6301 through 6306, and 6308, and subheadings 6307.10, 6307.90, 9404.90, and 9619.00.31-33 if the good was not knit to shape and the good was wholly assembled in a single country, territory, or insular possession, the country of origin of the good is the country, territory, or insular possession in which the good was wholly assembled.

* * * * *

(e) * * *

(1) * * *

Table 1 to Paragraph (e)(1)
HTSUS | Tariff shift and/or other requirements
* * * * * * *
4202.12.40-4202.12.89 | A change to subheading 4202.12.40 through 4202.12.89 from any other heading, provided that the change is the result of the good being wholly assembled in a single country, territory, or insular possession.
4202.22.40-4202.22.89 | A change to subheading 4202.22.40 through 4202.22.89 from any other heading, provided that the change is the result of the good being wholly assembled in a single country, territory, or insular possession.
4202.32.40-4202.32.99 | A change to subheading 4202.32.40 through 4202.32.99 from any other heading, provided that the change is the result of the good being wholly assembled in a single country, territory, or insular possession.
* * * * * * *
4202.92.15-4202.92.33 | A change to subheading 4202.92.15 through 4202.92.33 from any other heading, provided that the change is the result of the good being wholly assembled in a single country, territory, or insular possession.
4202.92.60-4202.92.97 | A change to subheading 4202.92.60 through 4202.92.97 from any other heading, provided that the change is the result of the good being wholly assembled in a single country, territory, or insular possession.
* * * * * * *
6201-6208 | (1) If the good consists of two or more component parts, a change to an assembled good of heading 6201 through 6208 from unassembled components, provided that the change is the result of the good being wholly assembled in a single country, territory, or insular possession.
| (2) If the good does not consist of two or more component parts, a change to heading 6201 through 6208 from any heading outside that group, except from heading 5007, 5111 through 5113, 5208 through 5212, 5309 through 5311, 5407 through 5408, 5512 through 5516, 5602 through 5603, 5801 through 5806, 5809 through 5811, 5903, 5906 through 5907, and 6217, and subheading 6307.90, and provided that the change is the result of a fabric-making process.
* * * * * * *
6210-6211 | (1) If the good consists of two or more component parts, a change to an assembled good of heading 6210 through 6211 from unassembled components, provided that the change is the result of the good being wholly assembled in a single country, territory, or insular possession.
| (2) If the good does not consist of two or more component parts, a change to heading 6210 through 6211 from any heading outside that group, except from heading 5007, 5111 through 5113, 5208 through 5212, 5309 through 5311, 5407 through 5408, 5512 through 5516, 5602 through 5603, 5801 through 5806, 5809 through 5811, 5903, 5906 through 5907, 6001 through 6006, and 6217, subheading 6307.90, and subheading 9619.00.61 through 9619.00.79, and provided that the change is the result of a fabric-making process.
6212 | (1) If the good is not knit to shape and consists of two or more component parts, a change to an assembled good of heading 6212 from unassembled components, provided that the change is the result of the good being wholly assembled in a single country, territory, or insular possession.
| (2) If the good is not knit to shape and does not consist of two or more component parts, a change to heading 6212 from any other heading, except from heading 5007, 5111 through 5113, 5208 through 5212, 5309 through 5311, 5407 through 5408, 5512 through 5516, 5602 through 5603, 5801 through 5806, 5809 through 5811, 5903, 5906 through 5907, 6001 through 6006, and 6217, and subheading 6307.90, and provided that the change is the result of a fabric-making process.
| (3) If the good is knit to shape, a change to heading 6212 from any other heading, provided that the knit to shape components are knit in a single country, territory, or insular possession.
* * * * * * *
6501 | (1) If the good consists of two or more components, a change to heading 6501 from any other heading, provided that the change is the result of the good being wholly assembled in a single country, territory, or insular possession. (2) If the good does not consist of two or more components, a change to heading 6501 from any other heading, except from heading 5602, and provided that the change is the result of a fabric-making process.
* * * * * * *
7019.13.15 | (1) If the good is of filaments, a change to subheading 7019.13.15 from any other heading, provided that the change is the result of an extrusion process.
| (2) If the good is of staple fibers, a change to subheading 7019.13.15 from any other subheading, except from subheading 7019.13.35, 7019.19.30 through 7019.19.91, 7019.14.00 through 7019.15.00, 7019.80.90, 7019.71.00, 7019.80.10, and 7019.90, and provided that the change is the result of a spinning process.
7019.13.28 | (1) If the good is of filaments, a change to subheading 7019.13.28 from any other heading, provided that the change is the result of an extrusion process.
| (2) If the good is of staple fibers, a change to subheading 7019.13.28 from any other subheading, except from subheading 7019.13.35, 7019.19.30 through 7019.19.91, 7019.14.00 through 7019.15.00, 7019.80.90, 7019.71.00, 7019.80.10, and 7019.90, and provided that the change is the result of a spinning process.
7019.61-7019.90 | A change to subheading 7019.61 through 7019.90 from any other subheading, provided that the change is the result of a fabric-making process.
* * * * * * *
9619.00.31-9619.00.33 | The country of origin of a good classifiable in subheading 9619.00.31 through 9619.00.33 is the country, territory, or insular possession in which the fabric comprising the good was formed by a fabric-making process.

(2) For goods of HTSUS headings 6213 and 6214 and HTSUS subheadings 6117.10, 6302.22, 6302.29, 6302.53, 6302.59, 6302.93, 6302.99, 6303.92, 6303.99, 6304.19, 6304.93, 6304.99, 9404.90.85 and 9404.90.95, except for goods classified under those headings or subheadings as of cotton or of wool or consisting of fiber blends containing 16 percent or more by weight of cotton:

* * * * *

Robert F. Altneu,
Director, Regulations & Disclosure Law Division Regulations & Rulings, Office of Trade U.S. Customs and Border Protection.

[FR Doc. 2022-23329 Filed 11-14-22; 8:45 am]

BILLING CODE 9111-14-P